DEPARTMENT OF COMMERCE

International Trade Administration

Membership of the International Trade Administration Performance Review Board

AGENCY: International Trade Administration, Department of Commerce.

ACTION: Notice of membership on the International Trade Administration's Performance Review Board.

SUMMARY: The International Trade Administration (ITA), Department of Commerce (DOC), announces the appointment of those individuals who have been selected to serve as members of ITA's Performance Review Board. The Performance Review Board is responsible for (1) reviewing performance appraisals and ratings of Senior Executive Service (SES) members and (2) making recommendations to the appointing authority on other performance management issues, such as pay adjustments, bonuses and Presidential Rank Awards for SES. The appointment of these members to the Performance Review Board will be for a period of twenty-four (24) months.

DATES: The period of appointment for those individuals selected for ITA's Performance Review Board begins on October 1, 2018.

FOR FURTHER INFORMATION CONTACT: Joan Nagielski, U.S. Department of Commerce, Office of Human Resources Management, Department of Commerce Human Resources Operations Center, Office of Employment and Compensation, 14th and Constitution Avenue NW, Room 50013, Washington, DC 20230, at (202) 482-6342.

SUPPLEMENTARY INFORMATION: In accordance with 5 U.S.C. 4314(c)(4), the International Trade Administration (ITA), Department of Commerce (DOC), announces the appointment of those individuals who have been selected to serve as members of the ITA Performance Review Board. The Performance Review Board is responsible for (1) reviewing performance appraisals and ratings of Senior Executive Service (SES) members and (2) making recommendations to the appointing authority on other Performance management issues, such as pay adjustments, bonuses and Presidential Rank Awards for SES. The Appointment of these members to the Performance Review Board will be for a period of twenty-four (24) months.

The name, position title, and type of appointment of each member of the Performance Review Board are set forth below:

1. Andre Mendes, Chief Information Officer, Career SES

2. Diane Farrell, Deputy Assistant Secretary for Asia, Career SES

3. James Sullivan, Deputy Assistant Secretary for Services, Noncareer SES

4. Carole Showers, Executive Director for Antidumping & Policy Negotiation, Career SES

5. Veronica LeGrande, HR Director, Enterprise Services, Career SES

6. Anne Driscoll, Deputy Assistant Secretary for Industry and Analysis, Career SES

7. Timothy Rosado, Chief Financial and Administrative Officer, Career SES

8. Praveen Dixit, Deputy Assistant Secretary for Trade Policy and Analysis, Career SES

9. Christian Marsh, Deputy Assistant Secretary for Enforcement and Compliance, Career SES

10. Stephen Renna, Director, Advocacy Center, Noncareer SES

11. John Cooney, Chief of Staff, Noncareer SES

12. Kurt Bersani, Chief Financial Officer, Enterprise Services, Career SES

Dated: September 26, 2018.
Joan M. Nagielski,
Human Resources Specialist, Office of Employment and Compensation, Department of Commerce Human Resources Operations Center, Office of Human Resources Management, Office of the Secretary, Department of Commerce.

[FR Doc. 2018-21268 Filed 9-28-18; 8:45 am]

BILLING CODE 3510-DS-P